DEPARTMENT OF TRANSPORTATION

Federal Aviation Administration

Notice of Availability of the Finding of No Significant Impact/Record of Decision and Adoption of the United States Marine Corps Environmental Assessment for the Establishment of the Walker Military Operations Area

AGENCY: Federal Aviation Administration (FAA), Department of Transportation.

ACTION: Notice of Availability of the Finding of No Significant Impact (FONSI)/Record of Decision (ROD).

SUMMARY: The FAA announces its decision to adopt the United States Marine Corps (USMC) Environmental Assessment (EA), entitled Marine Corps Mountain Warfare Training Center [MCMWTC] Bridgeport Walker Military Operations Area [MOA] Airspace Establishment, for the establishment of two MOAs in Bridgeport, California. This notice announces that, based on its independent review and evaluation of the EA and supporting documents, the FAA is adopting the EA and issuing a FONSI/ROD for the establishment of the Walker MOAs.

FOR FURTHER INFORMATION CONTACT: Paula Miller, Airspace Policy and Regulations Group, Office of Airspace Services, Federal Aviation Administration, 800 Independence Avenue SW, Washington, DC 20591; telephone: (202) 267-7378.

SUPPLEMENTARY INFORMATION:

Background

The Proposed Action is to establish Special Use Airspace (SUA) consisting of two MOAs—the Walker Low MOA and Walker High MOA—in airspace located above and adjacent to MCMWTC. The proposal for the MOAs is to designate airspace, outside of Class A airspace (i.e., below 18,000 feet above mean sea level [MSL]), to: (1) Separate or segregate certain nonhazardous military flight activities (including, but not limited to, air combat maneuvers, air intercepts, low altitude tactics) from Instrument Flight Rules (IFR) traffic; and (2) for Visual Flight Rules (VFR) traffic, to identify (in sectional charts and via Notice to Airman [NOTAM]) where and when these activities are conducted. The Proposed Action is needed to address training delays and flight safety issues (e.g., near-midair collisions) that have occurred when nonparticipating aircraft have entered the airspace when MCMWTC training activities were being conducted. This would result in enhanced flight safety for all pilots (civilian, commercial, and military) while enhancing the capability of MCMWTC to support critically required aviation and ground training. The proposed MOAs and continued use of the existing airspace are needed to enable military forces to train in an environment that is representative of realistic combat conditions. Specifically, the MCMWTC training areas and programs are imperative to the USMC and Joint Service mountain warfare readiness.

The Proposed Action was developed by the USMC to improve flight safety; accommodate joint use for reasonable and timely access to underlying public or private land; not impede public safety access for firefighting and other emergency services; support FAA Oakland Air Route Traffic Control Center's computer system and meet all FAA requirements; and not impact existing air traffic control assigned airspace.

Implementation

After evaluating the aeronautical study and the EA, the FAA has issued a FONSI/ROD to establish two MOAs. The Walker Low MOA would be established from the surface to, but not including, 13,500 feet MSL, and would be activated for up to 100 days per year for approximately 15 hours per day. The Walker High MOA would be established from 13,500 feet MSL to, but not including, FL180 (18,000 feet MSL), and would be activated for up to 40 days per year for approximately 12 hours per day. These MOAs would exclude airspace from the surface to 3,000 feet above ground level (AGL) over wilderness areas. A NOTAM would be published at least four hours in advance of activation.

In accordance with Section 102 of the National Environmental Policy Act of 1969 (NEPA), the Council on Environmental Quality's (CEQ) regulations for implementing NEPA (40 CFR parts 1500-1508), and other applicable authorities (including FAA Order 1050.1F, Environmental Impacts: Policies and Procedures, paragraph 8-2, and FAA Order JO 7400.2M, Procedures for Handling Airspace Matters, paragraph 32-2-3), the FAA has conducted an independent review and evaluation of the USMC's EA, dated November 4, 2019. As a cooperating agency with responsibility for approving SUA under 49 U.S.C. 40103(b)(3)(A), the FAA provided subject matter expertise and coordinated with the USMC during the environmental review process.

The USMC provided the Draft EA for public review from December 12, 2018, to January 26, 2019, and no comments were received.

The FONSI/ROD and EA are available upon request by contacting Paula Miller at: Airspace Policy and Regulations Group, Office of Airspace Services, Federal Aviation Administration, 800 Independence Avenue SW, Washington, DC 20591; telephone: (202) 267-7378.

Issued in Des Moines, WA, on March 25, 2020.
Shawn M. Kozica,
Manager, Operations Support Group, Western Service Center.

[FR Doc. 2020-06607 Filed 3-30-20; 8:45 am]

BILLING CODE 4910-13-P